DEPARTMENT OF COMMERCE

International Trade Administration

[A-570-985]

Xanthan Gum From the People's Republic of China: Final Results of Antidumping Duty Administrative Review and Final Determination of No Shipments; 2017-2018

AGENCY: Enforcement and Compliance, International Trade Administration, Department of Commerce.

SUMMARY: The Department of Commerce (Commerce) determines that the companies under review did not make sales of subject merchandise below normal value during the period of review (POR) July 1, 2017 through June 30, 2018.

DATES: Applicable November 25, 2019.

FOR FURTHER INFORMATION CONTACT: Aleksandras Nakutis or Thomas Hanna, AD/CVD Operations, Office IV, Enforcement and Compliance, International Trade Administration, U.S. Department of Commerce, 1401 Constitution Avenue NW, Washington, DC 20230; telephone: (202) 482-3147 and (202) 482-0835, respectively.

SUPPLEMENTARY INFORMATION:

Background

After Commerce published the Preliminary Results on June 10, 2019,¹ interested parties commented on those results. For details regarding the events that occurred subsequent to the Preliminary Results, see the Issues and Decision Memorandum.² Commerce conducted this administrative review in accordance with section 751 of the Tariff Act of 1930, as amended (the Act).

¹ See Xanthan Gum from the People's Republic of China: Preliminary Results of the Antidumping Duty Administrative Review, and Preliminary Determination of No Shipments; 2017-2018, 84 FR 26813 (June 10, 2019) (Preliminary Results) and accompanying Preliminary Decision Memorandum.

² See Memorandum “Issue and Decision Memorandum for the Final Results of the Antidumping Duty Administrative Review: Xanthan Gum from the People's Republic of China; 2017-2018,” (Issues and Decision Memorandum), dated concurrently with this notice.

Scope of the Order

The product covered by this order is dry xanthan gum, whether or not coated or blended with other products, from China. For a complete description of the scope of this order, see the Issues and Decision Memorandum.

Analysis of Comments Received

We addressed all issues raised in the case and rebuttal briefs submitted by interested parties in the Issues and Decision Memorandum, which is hereby adopted by this notice. The Appendix to this notice provides a list of sections in the Issues and Decision Memorandum as well as a list of the issues which parties raised. The Issues and Decision Memorandum is a public document and is on file electronically via Enforcement and Compliance's Antidumping and Countervailing Duty Centralized Electronic Service System (ACCESS). ACCESS is available to registered users at http://access.trade.gov and it is available to all parties in the Central Records Unit of the main Commerce building, room B8024. In addition, a complete version of the Issues and Decision Memorandum can be accessed directly on the internet at http://enforcement.trade.gov/frn/. The signed Issues and Decision Memorandum and the electronic version are identical in content.

Changes Since the Preliminary Results

Based on a review of the record and comments received from interested parties regarding the Preliminary Results, we have corrected a ministerial error that occurred in determining the surrogate value for Deosen's cornstarch.³ We have made no other changes to the Preliminary Results.

³ See Issues and Decision Memorandum at Comment 5.

Separate Rates

In the Preliminary Results, we found that Meihua Group International Trading (Hong Kong) Limited, Langfang Meihua Biotechnology Co., Ltd., and Xinjiang Meihua Amino Acid Co., Ltd. (collectively, Meihua), Deosen Biochemical (Ordos) Ltd./Deosen Biochemical Ltd. (collectively, Deosen) and CP Kelco (Shandong) Biological Company Limited (CP Kelco (Shandong) demonstrated their eligibility for separate-rate status, but that Hebei Xinhe Biochemical Co., Ltd. and A.H.A. International Co., Ltd. did not demonstrate their eligibility for separate-rate status because both failed to file a separate rate application or a separate rate certification.⁴ Thus, Commerce treated Hebei Xinhe Biochemical Co., Ltd. and A.H.A. International Co., Ltd. as part of the China-wide entity. No parties commented on these determinations. For the final results of review, we continue to grant Meihua, Deosen, and CP Kelco (Shandong) separate-rate status and deny Hebei Xinhe Biochemical Co., Ltd. and A.H.A. International Co., Ltd. separate-rate status.

⁴ See Preliminary Results, 84 FR at 26814.

Final Determination of No Shipments

In the Preliminary Results, we found that Jianlong Biotechnology Co., Ltd. (Jianlong) (previously known as Inner Mongolia Jianlong Biochemical Co., Ltd. (IMJ)) and Shanghai Smart Chemicals Co., Ltd. (Shanghai Smart) had no shipments of subject merchandise to the United States during the POR and, therefore, no reviewable transactions during the POR.⁵ No parties commented on these determinations. For the final results of review, we continue to find that these companies had no shipments during the POR.

⁵ Id.

Dumping Margin for Non-Individually Examined Respondents Granted Separate Rate Status

The statute and Commerce's regulations do not address the rate to apply to respondents not selected for individual examination in an NME administrative review who are eligible for a separate rate when Commerce limits its examination in an administrative review pursuant to section 777A(c)(2) of the Act. Generally, Commerce looks to section 735(c)(5) of the Act, which provides instructions for calculating the all-others rate in a market economy investigation, for guidance when calculating the rate for non-selected respondents that are not examined individually in an NME administrative review but are eligible for a separate rate. Section 735(c)(5)(A) of the Act provides that the all-others rate should be calculated by averaging the weighted-average dumping margins for individually-examined respondents, excluding rates that are zero, de minimis, or based entirely on facts available. When the rates for individually examined companies are all zero, de minimis, or based entirely on facts available, section 735(c)(5)(B) of the Act provides that Commerce may use “any reasonable method” to establish the all others rate. After making the change described above, both mandatory respondents, Meihua and Deosen, have a calculated weighted-average dumping margin of zero percent. As such, we assigned a dumping margin equal to zero percent to the separate rate recipients not selected for examination.

Final Results of Administrative Review

We determine that the following weighted-average dumping margin exists for the POR:

Exporter | Weighted-average dumping margins (percentage)
Deosen Biochemical Ltd./Deosen Biochemical (Ordos) Ltd | 0.00
Meihua Group International Trading (Hong Kong) Limited/Langfang Meihua Biotechnology Co., Ltd./Xinjiang Meihua Amino Acid Co., Ltd | 0.00
CP Kelco (Shandong) Biological Company Limited | 0.00

Assessment Rates

Pursuant to section 751(a)(2)(A) of the Act and 19 CFR 351.212(b), Commerce has determined, and U.S. Customs and Border Protection (CBP) shall assess, antidumping duties on all appropriate entries of subject merchandise in accordance with the final results of this review. Commerce intends to issue assessment instructions to CBP 15 days after the publication date of the final results of this review. Because Meihua, Deosen, and CP Kelco (Shandong)'s weighted-average dumping margin is zero percent, we intend to instruct CBP to liquidate appropriate entries from these companies without regard to antidumping duties.⁶

⁶ See Antidumping Proceedings: Calculation of the Weighted-Average Dumping Margin and Assessment Rate in Certain Antidumping Proceedings; Final Modification, 77 FR 8101, 8103 (February 14, 2012).

For entries that were not reported in the U.S. sales database submitted by an exporter individually examined during this review, but that entered under the case number of that exporter (i.e., at the individually-examined exporter's cash deposit rate), we will instruct CBP to liquidate such entries at the China-wide rate (i.e., 154.07 percent). Additionally, where we determined that an exporter under review had no shipments of the subject merchandise to the United States during the POR, any suspended entries that entered during the POR under that exporter's case number will be liquidated at the China-wide rate.

Although Commerce discontinued the instant review with respect to Inner Mongolia Fufeng Biotechnologies Co., Ltd./Neimenggu Fufeng Biotechnologies Co., Ltd. (aka Inner Mongolia Fufeng Biotechnologies Co., Ltd.) (Neimenggu Fufeng)/Shandong Fufeng Fermentation Co., Ltd. (Shandong Fufeng)/Xinjiang Fufeng Biotechnologies Co., Ltd. (Xinjiang Fufeng) (collectively, Fufeng), as a result of litigation before the U.S. Court of International Trade,⁷ the suspension of liquidation must continue during the pendency of the appeals process for that litigation. Therefore, we will not issue liquidation instructions for POR entries of subject merchandise produced and exported by Fufeng until the appeals process has concluded.

⁷ See Xanthan Gum from the People's Republic of China: Notice of Court Decision Not in Harmony With Amended Final Determination in Less Than Fair Value Investigation; Notice of Amended Final Determination Pursuant to Court Decision; Notice of Revocation of Antidumping Duty Order in Part; and Discontinuation of Fourth and Fifth Antidumping Duty Administrative Reviews in Part, 83 FR 52205, 52206 (October 16, 2018).

Cash Deposit Requirements

The following cash deposit requirements will be effective for all shipments of the subject merchandise entered, or withdrawn from warehouse, for consumption on or after the publication date of the final results of review, as provided for by section 751(a)(2)(C) of the Act: (1) For the exporters listed in the table above, the cash deposit rate will be the rate that is listed for the exporter in the table above; (2) for previously investigated or reviewed China and non-China exporters not listed in the table above that have a separate rate, the cash deposit rate will continue to be the existing exporter-specific rate published for the most recent period; (3) for all China exporters of subject merchandise that have not been found to be entitled to a separate rate, the cash deposit rate will be the rate previously established for the China-wide entity, which is 154.07 percent; and (4) for all non-China exporters of subject merchandise which have not received their own rate, the cash deposit rate will be the rate applicable to the China exporter that supplied that non-China exporter. The cash deposit requirements, when imposed, shall remain in effect until further notice.

Notification to Importers Regarding the Reimbursement of Duties

This notice also serves as a final reminder to importers of their responsibility under 19 CFR 351.402(f) to file a certificate regarding the reimbursement of antidumping duties prior to liquidation of the relevant entries during this POR. Failure to comply with this requirement could result in Commerce's presumption that reimbursement of antidumping duties occurred and the subsequent assessment of double antidumping duties.

Notification Regarding Administrative Protective Order (APO)

This notice also serves as a reminder to parties subject to APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

We are issuing these final results of administrative review and publishing this notice in accordance with sections 751(a)(1) and 777(i) of the Act.

Dated: November 18, 2019.
Jeffrey I. Kessler,
Assistant Secretary for Enforcement and Compliance.

Appendix

List of Topics Discussed in the Issues and Decision Memorandum

I. Summary

II. Background

III. Scope of the Order

IV. Discussion of The Issues

Comment 1: Commerce Should Make No Changes to the Calculations Not Raised in the Case Briefs of the Parties to the Review

Comment 2: Commerce Should Not Deduct from the U.S. Price Any Amount for Value-Added Tax

Comment 3: Whether Commerce Should Modify Customs Instructions

Comment 4: Commerce Should Include Reported Energy Factors of Production in its Normal Value Calculation

Comment 5: Commerce Incorrectly Valued Cornstarch

Comment 6: Commerce Should Accept Green Health International's Separate Rate Application

V. Conclusion

[FR Doc. 2019-25536 Filed 11-22-19; 8:45 am]

BILLING CODE 3510-DS-P